DEPARTMENT OF HEALTH AND HUMAN SERVICES

Office of the Secretary

Findings of Misconduct in Science

AGENCY: Office of the Secretary, HHS.

ACTION: Notice.

SUMMARY: Notice is hereby given that on January 7, 2010, the Department of Health and Human Services (HHS) Debarring Official, on behalf of the Secretary of HHS, issued a final notice of debarment based on the misconduct in science findings of the Office of Research Integrity (ORI) in the following case:

James Gary Linn, PhD, Tennessee State University: Based on the findings in an investigation report by Tennessee State University (TSU) and additional analysis conducted by ORI in its oversight review, ORI found that James Gary Linn, Ph.D., former Professor, School of Nursing, TSU, committed misconduct in science and research misconduct in research supported by National Institute of General Medical Sciences (NIGMS), National Institutes of Health (NIH), grant S06 GM008092, and National Center for Research Resources (NCRR), NIH, grant G12 RR03033.

Specifically, ORI found:

• The Respondent knowingly and intentionally falsified and/or fabricated the data and results of a study in which he purportedly tested the effects of an intervention to reduce sexual risk behaviors in high risk, impaired populations of homeless men with mental illness by reporting false values for variables in Tables 2-5 of Cellular and Molecular Biology 49(7):1167-1175, 2003. In that published article, he falsified the values in Tables 2-5 by altering the values that he had obtained from another author's manuscript.

• The Respondent provided a CD ROM disc to TSU's Institutional Research Investigation Committee (RIC) that he claimed contained files supporting his analyses for the article in question but that contained fabricated and/or falsified data.

• The Respondent submitted falsified summary data to the TSU RIC during the TSU investigation and to ORI.

ORI issued a charge letter enumerating the above findings of misconduct in science and proposing HHS administrative actions. Dr. Linn subsequently requested a hearing before an Administrative Law Judge (ALJ) of the Departmental Appeals Board to dispute these findings. However, on November 30, 2009, Dr. Linn withdrew his request for a hearing. On December 18, 2009, the ALJ of the Departmental Appeals Board accepted Dr. Linn's withdrawal and dismissed his request for a hearing. Thus, the scientific misconduct findings set forth above became effective, and the following administrative actions have been implemented for a period of three (3) years, beginning on January 7, 2010:

(1) Dr. Linn has been debarred from any contracting or subcontracting with any agency of the United States Government and from eligibility or involvement in nonprocurement programs of the United States Government referred to as “covered transactions” pursuant to the Department of Health and Human Service's Implementation (2 CFR Part 376 et seq.) of OMB Guidelines to Agencies on Governmentwide Debarment and Suspension, 2 CFR Part 180; and

(2) Dr. Linn is prohibited from serving in any advisory capacity to PHS including but not limited to service on any PHS advisory committee, board, and/or peer review committee, or as consultant.

FOR FURTHER INFORMATION CONTACT: Director, Division of Investigative Oversight, Office of Research Integrity, 1101 Wootton Parkway, Suite 750, Rockville, MD 20852, (240) 453-8800.

John Dahlberg,
Director, Division of Investigative Oversight, Office of Research Integrity.

[FR Doc. 2010-1706 Filed 1-27-10; 8:45 am]

BILLING CODE 4160-17-P